DEPARTMENT OF JUSTICE

Notice of Lodging of Proposed Partial Consent Decree Under the Clean Water Act

On January 9, 2024, the Department of Justice lodged a proposed Partial Consent Decree with the United States District Court for the District of Arizona, in the lawsuit entitled United States v. Navajo Tribal Utility Authority, Civil Action No. 3:24-cv-08006.

The United States filed this lawsuit under the Clean Water Act. The United States' complaint seeks injunctive relief for violations of the limitations and conditions established in the defendant's National Pollutant Discharge Elimination System (“NPDES”) permits at three of its wastewater treatment facilities within the Navajo Nation in Northeastern Arizona. The Partial Consent Decree requires the defendant to improve the performance of its exiting treatment plants in the short term, construct new treatment plants over the longer term, improve its operation and maintenance of the facilities, and study its collection systems to identify defects and plan for their repair.

The publication of this notice opens a period for public comment on the Partial Consent Decree. Comments should be addressed to the Assistant Attorney General, Environment and Natural Resources Division, and should refer to United States v. Navajo Tribal Utility Authority, D.J. Ref. No. 90-5-1-1-12527. All comments must be submitted no later than forty-five (45) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Partial Consent Decree may be downloaded and examined from this Justice Department website: https://www.justice.gov/enrd/consent-decrees. We will provide a paper copy of the decree upon written request and payment of reproduction costs. Please mail your request and payment to: Consent Decree Library, U.S. DOJ—ENRD, P.O. Box 7611, Washington, DC 20044-7611.

Please enclose a check or money order for $47.25 (25 cents per page reproduction cost) payable to the United States Treasury. For a paper copy without the exhibits and signature pages, the cost is $16.75.

Lori Jonas,
Assistant Section Chief, Environmental Enforcement Section, Environment and Natural Resources Division.

[FR Doc. 2024-01161 Filed 1-22-24; 8:45 am]

BILLING CODE 4410-15-P